DEPARTMENT OF JUSTICE

Antitrust Division

Notice Pursuant to the National Cooperative Research and Production Act of 1993; DVD Copy Control Association (“DVD CCA”)

Notice is hereby given that, on April 11, 2001, pursuant to Section 6(a) of the National Cooperative Research and Production Act of 1993, 15 U.S.C. 4301 et seq. (“the Act”), DVD Copy Control Association (“DVD CCA”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Acer Laboratories Inc., Taipei, Taiwan; Advanced Media Corporation, Tokushima, Japan; Afreey Inc., Taipei, Taiwan; Ahead Software GmbH, Karlsbad, German; Alco Electronics, Ltd., Quarry Bay, Hong Kong-China; Alcorn McBride Inc., Orlando, FL; Alpine Electronics; Inc., Fukushima-Ken, Japan; Americ Disc Inc., Salida, CA; AMLogic Inc., San Jose, CA; Amoisonic Electronics Co., Ltd., Xiamen, People's Republic of China; Apple Computer, Inc., Cupertino, CA; Argosy Research Inc., Hsinchu, Taiwan, ATI Technologies Inc., Thornhill, Ontario, Canada; ATL Electronics (M) Sdn, Kedah, Malaysia; Bang & Olufsen A/S, Struer, Denmark; Beautiful Enterprise Co., Ltd., Kowloon, Hong Kong-China; Bestdisc Technology Corporation, Kee-Lung, Taiwan; Bien Technology Corporation, Taipei, Taiwan; BMG Storage Media, Gutersloh, Germany; C-Cube Semiconductor II Inc., Milpitas, CA; CDA Datentrager Albrechts GmbH, Albrechts, Germany; Chaintech Computer Co., Ltd., Taipei Hsien, Taiwan; Changzhou Shinco Digital Technology Co., Ltd., Changzhou Jiangsu, People's Republic of China; Changzhou ZingQui Electric Co., Ltd., Changzhou Jiangsu, People's Republic of China; Cinet AS, Oslo, Norway; Cinram International, Inc., Toronto, Ontario, Canada; Cirrus Logic, Inc., Freemont, CA; Clarion Co., Ltd., Tokyo-To, Japan; C-Media Electronics Inc., Taipei, Taiwan; Compal Electronics, Inc., Taipei, Taiwan; Compaq Computer Corporation, Houston, TX; Computer & Entertainment, Inc., Taipe, Taiwan; Condor CD S.L., Calatayud (Zaragoza), Spain; Creative Technology Ltd., Singapore, Singapore; Crest National, Hollywood, CA; CyberLink Corporation, Taipei Hsien, Taiwan; Daesung Eltec Co., Ltd., Seoul, Republic of Korea; Daewood Electronics Co., Ltd., Kyonggi Do, Republic of Korea; Daikin Industries, Tokyo, Japan; Dell Computer Corporation, Round Rock, TX; Deluxe Video Services, Inc., Northbrook, IL; Desay A&V Science and Technology Co., Ltd., Guangdong, People's Republic of China; Disctronics Manufacturing (UK) Limited, Southwater, West Sussex, United Kingdom; Doug Carson & Associates, Inc., Cushing, OK; E&S Electronics Co., Ltd., Seoul, Republic of Korea; Eastman Kodak Company, Rochester, NY; Eclipse Data Technologie, Pleasanton, CA; Ecom Inc., Tokyo, Japan; Edge Electronics, Inc., Ronkonkoma, NY; Electric Switch Limited, London, United Kingdom; EMI Group PLC, London, United Kingdom; Epson Direct Corporation, Nagano-Ken, Japan; Escient Technologies, LLC, Indianapolis, IN; E-Smart Electronics Ltd., Kowloon, Hong Kong-China; Esonic Technology Corp., Taipei, Taiwan; ESS Technology, Inc., Freemont, CA; Etronics Corporation, Incheon, Republic of Korea; First International Computer, Inc., Taipei Hsien, Taiwan; Fly Ring Digital Technology Ltd., Northpoint, Hong-Kong-China; FM Com Corp., Seoul, Republic of Korea; Friendly CD-Tek Corporation, Taipei, Taiwan; FujiFilm Microdevices Co., Ltd., Miyagi, Japan; Fujitsu Limited, Kawasaki, Japan; Funai Electric Co., Ltd., Osaka, Japan; Future Media Productions, Inc., Valencia, CA; Gema O.D.S.A., Barcelona, Spain; Goldteck International Inc., Taipei, Taiwan; Great China Technology Inc., Taipei Hsien, Taiwan; Guangdong Nintaus Electronics Co., Ltd., Guandong, People's Republic of China; GVG Digital Technology Holdings (HK) Limited, Shatin, N.T., Hong Kong-China; Gynco Electronics (HK) Ltd., Kowloon, Hong Kong China; Harman International Industries Inc. (Madrigal Audio), Northridge, CA; Hermosa Cysware Ltd., Taipei, Taiwan; Hewlett-Packard Company, Cupertino, CA; Highlead Technology, Inc., Taipei Hsien, Taiwan; Hirel Company, Tokyo, Japan; Hisaki Sekkei Inc., Fukushima, Japan; Hitachi Ltd., Tokyo, Japan; Hua Du Shi Teng Wei Electronic Factory, Kowloon Bay, Hong Kong-China; Iavix Technology Co., Ltd., Taipei, Taiwan; Imagica Corporation, Tokyo, Japan; Infineon Technologies Corporation, San Jose, CA; Infodisc Technology Co., Ltd., Taipei, Taiwan; Intel Corporation, Hillsboro, OR; InterMagic Corporation, Seoul, Republic of Korea; InterVideo, Inc., Fremont, CA; Inventec Corporation, Taipei, Taiwan; Iomega Corporation, Roy, UT; Jaton Computer Co., Ltd., Bangkok, Thailand; Jeong Moon Information Co., Ltd., Kyeongki-Do, Republic of Korea; Jeu Hang Technology Co., Ltd., Taipei, Taiwan; Jointech (HK) Limited, Kwun Tong, Hong Kong-China; KDG France, St. Michael sur Meurthe, France; Kenden Corporation, Tokyo, Japan; Kenwood Corporation, Tokyo, Japan; Konka Group Co., Ltd., Shenzhen Special Zone, People's Republic of China; Leadtek Research Inc., Taipei Hsien, Taiwan; LG Electronics, Inc., Seoul, Republic of Korea; Linux Technology Ltd., Taipei, Taiwan; Lite-On Technology Corp., Taipei, Taiwan; LSI Logic Corporation, Milpitas, CA; LSI Systems, Inc., Kawasai Kanagawa, Japan; LuxSonor Semiconductors, Inc., Fremont, CA; Makidol Electronics Co., Ltd., Longhua, Shenzhen, People's Republic of China; Margi Systems, Inc., Fremont, CA; Matsushita Electric Industrial Co., Ltd. Osaka, Japan; Maxwell Productions LLC, Scottsdale, AZ; MbyN Inc., Kyungki-do, Republic of Korea; Media Dimensions, Inc., Austin, TX; Media Tek Inc., Hsin-Chu City, Taiwan; Megamedia Corporation, Keelung, Taiwan; Memory-Tech Corporation, Ibaragi-ken, Japan; Meridian Audio Limited, Huntingdon, Cambridgeshire, United Kingdom; Metatec International Corporation, Dublin, OH; Metro-Goldwyn-Mayer Studios Inc., Santa Monica, CA; MGI Software Corporation, Richmond Hill, Ontario, Canada; Microservice Technologia Digital S/A, Sao Paulo, Brazil; Mitsubishi Electric Corp., Tokyo, Japan; Mitsumi Electric Co., Ltd., Tokyo, Japan; Motorola, Inc., Austin, TX; Mustek Systems Inc., Hsin-Chu, Taiwan; Nakamichi Corporation, Tokyo, Japan; National Semiconductor Corp. (Mediamatics), Santa Clara, CA; NEC USA, Inc., New York, NY; New Japan Radio Co., Ltd., Tokyo, Japan; Ngai Lik Electronics Co., Ltd., Kowloon, Hong Kong-China; NHK Technical Services Inc., Tokyo, Japan; Nimbus CD International, Inc. dba Technicolor, Ruckersville, VA; Nippon Columbia Co., Ltd., Tokyo, Japan; Novac Co., Ltd., Tokyo, Japan; Oak Technology, Inc., Sunnyvale, CA; Onkyo Corporation, Osaka, Japan; OPT Corporation, Nagano-ken, Japan; Orient Power Multimedia Ltd., Kowloon, Hong Kong-China; Orion Electric Co., Ltd., Fukui, Japan; Pan-International Industrial Corp., Hsinchu City, Taiwan; Pioneer Corporation, Tokyo, Japan; PitsExpert Technology Co., Ltd., Taipei, Taiwan; Pony Canyon Enterprise Inc., Tokyo, Japan; PT Hartono Istana Technologi, Kudus, Indonesia; QNX Software Systems Ltd., Kanata, Ontario, Canada; Quanta Computer Inc., Tao Yuan Shieh, Taiwan, Ravisent Technologies, Malvern, PA; Ray Corporation, Tokyo, Japan; Ricoh Company Ltd., Yokohama-shi, Japan; Ryosan Company, Limited, Tokyo, Japan; Sampo Corporation, Taipei Hsien, Taiwan; Samsung Electronics Co. Ltd., Kyungki-Do, Republic of Korea; Sanyo Electric Co., Ltd. Osaka, Japan; Sanyo Laser Products, Inc., Richmond, IN; Sensory Science Corporation, Scottsdale, AZ; Sharp Corporation, Osaka, Japan; Shenzhen Sangda Baodian Co., Ltd., Shenzhen, Guangdong, People's Republic of China; Shenzhen WED Development Co., Ltd., Shenzhen, Guangdong, People's Republic of China; Shiba-Tech Co., Ltd., Kowloon, Hong Kong-China; Shinano Kenshi Co., Ltd., Nagano-ken, Japan; Shinwa Industries (China) Ltd., Guangdon, People's Republic of China; Sigma Designs, Inc., Milpitas, CA; Sasken Communication Technologies Limited, Bangalore, India; SKC Co., Ltd., Kyonggi-do, Republic of Korea; Skyworth (Group) Co., Ltd., Quarry Bay, Hong Kong-China; Silicon Magic Corporation, Sunnyvale, CA; Singhale Development Limited, Aberdeen, Hong Kong-China; Societe Nouvelle Areacem (S.N.A.), Tourouvre, France; Sony Corporation, Tokyo, Japan; Southern Star Duplitek Pty. Ltd., Alexandria, NSW, Australia; Spruce Technologies, Inc., San Jose, CA; Stream Machine Company, Milpitas, CA; Sun Microsystems Inc., Palo Alto, CA; Sunplus Technology Co., Ltd., Hsin-Chu, Taiwan; Sunchronicity Mastering Services LLC, Salt Lake City, UT; Tae Kwang Industrial Co., Ltd., Gyonggi-Do, Republic of Korea; TAG McLaren Audio Limited, Huntingdon, Cambridgeshire, United Kingdom; Takaya Corporation, Okayama, Japan; Tatung Co., Taipei, Taiwan; TBS Service, Inc., Tokyo, Japan; TEAC Corporation, Tokyo, Japan; Shanghai Thakral Electronics Industrial Corporation Limited, Shanghai, People's Republic of China; Texas Instruments Japan Limited, Tokyo, Japan; The Video Duplicating Co. Ltd., Wembley, Middlesex, United Kingdom; Thomas Multimedia S.A., Boulogne Billancourt, France; Time Group Ltd, Burnley, Lancashire, United Kingdom; Tohei Industrial Co., Ltd., Fukushima-ken, Japan; Tonic Electronics Limited, Kowloon, Hong Kong-China; Toolex International N.V., Eindhoven, The Netherlands; Toppan Printing Co., Ltd., Tokyo, Japan; Toshiba Corporation, Tokyo, Japan; TriMedia Technologies, Inc., Milpitas, CA; Twentieth Century Fox Film Corporation, Beverly Hills, CA; Unidisc Technology Co., Ltd., Taipei Hsien, Taiwan; Universal Manufacturing & Logistics GmbH, Langenhagen, Germany; Universal City Studios, Inc., Universal City, CA; U-Tech Media Corp., Tau-Yuan Shien, Taiwan; Vestel Elektro nik VE Sanayi Ti car et A.S., Manisa, Turkey; VIA Technologies, Inc., Taipei, Taiwan; Victor Company of Japan, Limited, Yokohama, Japan; Videolar S/A, Alphaville-Barueri, Brazil; Vision Tech International Holdings Limited, Wan Chai, Hong Kong-China; Viva Magnetics Limited, Aberdeen, Hong Kong-China; Warner Bros, Burbank, CA; WEA Manufacturing Inc., Olyphant, PA; Winbond Electronics Corp., Hsinchu, Taiwan; Yamaha Corporation, Hamamatsu, Japan; Yuan High-Tech Development Co., Ltd., Taipei, Taiwan; Zen Research N.V., Curacao, Netherlands Antilles; and Zoran Corporation, Santa Clara, CA.

The nature and objectives of the venture are to provide an encryption technology designed to prevent unlawful or unauthorized copying by encrypting digital files that can be decrypted only on licensed equipment. DVD CCA also intends to research, evaluate, adopt and license related technologies designed to protect CSS against unauthorized or unlawful copying and to prevent the unauthorized or unlawful copying and to prevent the unauthorized playback of DVD discs. DVD CCA licenses Content Scramble System (“CSS”) technology to participants at various levels in the Digital Versatile Disk (“DVD”) industry.

Constance K. Robinson,
Director of Operations, Antitrust Division.

[FR Doc. 01-19392 Filed 8-2-01; 8:45 am]

BILLING CODE 4410-11-M